DEPARTMENT OF TRANSPORTATION

Federal Motor Carrier Safety Administration

49 CFR Parts 380 and 391

[Docket FMCSA-97-2176]

RIN 2126-AA08

Minimum Training Requirements for Longer Combination Vehicle (LCV) Operators and LCV Driver-Instructor Requirements

AGENCY: Federal Motor Carrier Safety Administration (FMCSA), DOT.

ACTION: Notice of proposed rulemaking (NPRM); request for comments.

SUMMARY: The FMCSA is proposing standards for minimum training requirements for the operators of longer combination vehicles (LCVs) and requirements for the instructors who train these operators. This action is in response to section 4007 of the Intermodal Surface Transportation Efficiency Act of 1991, which directed that training for the operators of LCVs include certification of an operator's proficiency by an instructor who has met the requirements established by the Secretary. The purpose of this proposal is to enhance the safety of commercial motor vehicle (CMV) operations on our nation's highways.

DATES: Comments must be received on or before October 14, 2003.

ADDRESSES: You can mail, fax, hand deliver or electronically submit written comments to the Docket Management Facility, U. S. Department of Transportation, Dockets Management Facility, Room PL-401, 400 Seventh Street, SW., Washington, DC 20590-0001, FAX (202) 493-2251, on-line at http://dms.dot.gov/submit. You must include the docket number that appears in the heading of this document in your comment. You can examine and copy all comments at the above address from 9 a.m. to 5 p.m., EST, Monday through Friday, except Federal holidays. You can also view all comments or download an electronic copy of this document from the DOT Docket Management System (DMS) at http://dms.dot.gov/search.htm by typing the last four digits of the docket number appearing at the heading of this document. The DMS is available 24 hours each day, 365 days each year. You can get electronic submission and retrieval help and guidelines under the “help” section of the Web site. If you want us to notify you that we received your comments, please include a self-addressed, stamped envelope or postcard or print the acknowledgement page that appears after submitting comments on-line.

Comments received after the comment closing date will be included in the docket, and we will consider late comments to the extent practicable. Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78) or you may visit http://dms.dot.gov.

FOR FURTHER INFORMATION CONTACT: Mr. Robert Redmond, Office of Safety Programs, (202) 366-9579, Federal Motor Carrier Safety Administration, U.S. Department of Transportation, 400 Seventh Street, SW., Washington, DC 20590. Office hours are from 8:30 a.m. to 5 p.m., EST, Monday through Friday, except Federal holidays.

SUPPLEMENTARY INFORMATION: Section 4007(b) of the Motor Carrier Act of 1991 (Title IV of the Intermodal Surface Transportation Efficiency Act of 1991 (ISTEA), Pub. L. 102-240, 105 Stat. 1914, 2152; 49 U.S.C. 31307) directs the U.S. Department of Transportation to establish Federal minimum training requirements for drivers of LCVs. The ISTEA also requires that the certification of these drivers' proficiency be accomplished by instructors who meet certain Federal minimum requirements to ensure an acceptable degree of quality control and uniformity. Section 4007(f) of the ISTEA defines an LCV as any combination of a truck-tractor and two or more trailers or semi-trailers with a gross vehicle weight (GVW) greater than 80,000 pounds (36,288 kilograms) which are operated on the Interstate Highway System. The FMCSA is proposing definitions to identify the various configurations being operated on the nation's highways that would be included in the final rule; they will be discussed later in this document.

Background

In the early 1980's, the FHWA ¹ determined that a need existed for technical guidance in the area of truck driver training. Research at that time had shown that many driver-training schools offered little or no structured curricula or uniform training programs for any type of CMV.

¹ On October 9, 1999, the Secretary of Transportation (Secretary) rescinded the authority previously delegated to the Federal Highway Administrator to perform motor carrier functions and operations, and to carry out the duties and powers related to motor carrier safety and redelegated that authority to the Director, Office of Motor Carrier Safety, a new office within the Department of Transportation (Department). On December 9, 1999, the Motor Carrier Safety Improvement Act of 1999 established a new administration—the Federal Motor Carrier Safety Administration (FMCSA)—within the Department to improve the motor carrier safety program, effective January 1, 2000.

To help correct this problem, the agency developed, and in 1985 issued, the “Model Curriculum for Training Tractor-Trailer Drivers” (1985, GPO Stock No. 050-001-00293-1), which incorporated the agency's “Proposed Minimum Standards for Training Tractor Trailer Drivers” (1984). The Model Curriculum, as it is known in the industry, is a broad set of recommendations that incorporates standardized minimum core curriculum guidelines and training materials, as well as guidelines pertaining to vehicles, facilities, instructor hiring practices, graduation requirements, and student placement. Curriculum content includes the following areas: basic operation, safe operating practices, advanced operating practices, vehicle maintenance, and non-vehicle activities.

The Professional Truck Driver Institute (PTDI) was created in 1986 by the motor carrier industry to certify training programs offered by the truck-driver training schools. (Originally named the Professional Truck Driver Institute of America (PTDIA), the group changed its name to reflect the addition of Canada to the organization.) The Model Curriculum is the base from which the PTDI's certification criteria were derived. The PTDI, in mid-1988, began certifying truck-driver training programs across the country. As of February 2003, approximately 64 schools in 27 States and Canada have received the PTDI certification. Although many schools have a number of truck driving courses, most have only one course certified by PTDI.

The Commercial Motor Vehicle Safety Act of 1986 (CMVSA) (49 U.S.C. 31301 et seq.), although not directly targeted at driver-training, is intended to improve highway safety. Its goal is to ensure that drivers of large trucks and buses possess the knowledge and skills necessary to safely operate those vehicles on public highways. The CMVSA established the commercial driver's license (CDL) program and directed the FMCSA to establish minimum Federal standards which States must meet when licensing CMV drivers. The CMVSA applies to virtually anyone who operates a CMV in interstate or intrastate commerce, including employees of Federal, State, and local governments. As defined by the implementing regulation (49 CFR 383.5), a CMV is a motor vehicle or combination of motor vehicles used in commerce to transport passengers or property if the vehicle—

(a) Has a gross combination weight rating (GCWR) of 11,794 or more kilograms (26,001 or more pounds) inclusive of a towed unit with a gross vehicle weight rating (GVWR) of more than 4,536 kilograms (10,000 pounds); or

(b) Has a GVWR of 11,794 or more kilograms (26,001 or more pounds); or

(c) Is designed to transport 16 or more passengers, including the driver; or

(d) Is of any size and is used in the transportation of hazardous materials as defined in this section.

In accordance with the CMVSA, all drivers of CMVs must possess a valid CDL in order to be properly qualified to operate the vehicle(s) they drive. In addition to passing the CDL knowledge and skills tests required for the basic vehicle group, all persons who operate or expect to operate the following vehicles, which have special handling characteristics, must obtain endorsements under 49 CFR 383.93:

(a) Double/triple trailers;

(b) Passenger vehicles;

(c) Tank vehicles; or

(d) Vehicles required to be placarded for hazardous materials.

For all endorsements, the driver is required to pass a knowledge test. The driver must also pass a skills test to obtain a passenger endorsement.

The CDL standards do not require the comprehensive driver-training proposed in the Model Curriculum since the CDL is a “licensing standard” as opposed to a “training standard.” Accordingly, there are no prerequisite Federal or State training requirements to obtain a CDL.

In 1990, the National Transportation Safety Board (NTSB) recommended that drivers of specialized vehicles, including drivers of twin trailer vehicles, be knowledgeable about the special handling characteristics and other variables that influence the controllability and maneuverability of multiple-trailer configurations, and how these variables compare to, and contrast with, those that affect the operation of a semi-trailer combination.

Subsequently, the agency awarded a contract in February 1991 to the PTDI to develop voluntary criteria for training drivers in the safe operation of twin 8.534-meter (28-foot) trailer combination vehicles. The result of this contract was the development of a “Twin Trailer Driver Curriculum” which outlines how drivers should be trained in the safe operation of these vehicles. This document is available for review in the public docket.

The “Twin Trailer Driver Curriculum” outline was developed with the assistance of subject matter experts from motor carrier fleets, industry associations, training institutions and governmental organizations. The resulting curriculum is a training program that consists of 115 clock-hours of direct driver participation, including a minimum of 56 hours of behind-the-wheel training.

The agency awarded two additional contracts to the PTDI to develop curriculum outlines to address triple-trailer combination vehicles and Rocky Mountain/Turnpike Doubles combination vehicles. Ultimately, the curriculum outlines for twin trailers, Rocky Mountain/Turnpike Doubles and triple-trailer combinations were merged into a single document, entitled “Multiple Trailer Combination Vehicle (MTCV) Driver Training Guide: Suggested Units of Instruction and Curriculum Outline.” The PTDI was selected to develop a composite modular training curriculum outline embracing both the LCV driver and instructor.

Upon completion of the curricula, the agency coordinated with the U.S. Department of Education (Education) to ensure that the proposed training requirements are in concert with its accreditation requirements. The agency representatives agreed that the proposed training requirements would be eligible for accreditation by any group that met the criteria and procedures described in the publication “Nationally Recognized Accrediting Agencies and Associations, Criteria and Procedures for Listing by the U.S. Secretary of Education and Current List.” This document is available for review in the public docket.

The agency also completed two projects that contributed to an enhanced understanding of driver training. Although they were not specifically designed to address one type of driver training versus another or to address specific items that would be included in a minimum training standard, they do provide perspective on the importance of driver training and the need for minimum training requirements. The following summarizes these projects:

The first project took place during December 1994 when the agency conducted focus groups to obtain information about highway safety issues relating to commercial motor carriers (trucks and buses). The sessions were conducted with representatives of three populations that have an interest in the safety of commercial vehicles: commercial drivers (holders of CDLs), police officers who deal at least in part with traffic enforcement, and the general public. As described in the “Focus Group Report,” all three groups reported that driver error is the most important cause of safety problems. All groups said that there is a need to upgrade the CDL through longer training, certification of instructors, higher performance standards and periodic re-testing. This document is available for review in the public docket.

The second project occurred in March 1995 when the FHWA sponsored the first National Truck and Bus Safety Summit. More than 200 experts attended it from all facets of the motor carrier community including Federal, State and local enforcement and legal communities, carriers, drivers, heavy vehicle manufacturers and suppliers, shippers, highway safety researchers, insurers, and other professional organizations. These truck and bus safety experts met for three days to share their views on significant truck and bus safety issues. As described in the “1995 Truck and Bus Safety Summit, Report of Proceedings”, overall driver training and continuing education (for commercial drivers and the general motoring public) ranked number three out of seventeen safety issues identified by the participants. This document is available for review in the public docket.

The agency has utilized these projects, the research conducted over the past several years and the comments to the 1993 advance notice of proposed rulemaking (ANPRM) on training of LCV drivers to develop the proposals in this notice of proposed rulemaking.

Comments to the ANPRM

On January 15, 1993, the FHWA published an ANPRM in the Federal Register (58 FR 4638) seeking comments and responses to 13 specific questions. The FMCSA received 24 comments which are discussed below.

Question 1: Should the definition of LCV that will be used to develop a training requirement be expanded to include vehicles not covered by the ISTEA, such as multiple-trailer combinations operating with a gross weight of less than 36,288 kilograms (80,000 pounds), i.e., “twin trailers” or “western doubles”?

Comments: Of the 13 commenters that provided a response to this question, 6 were in favor of expanding the definition of an LCV to include multiple-trailer combination vehicles with a GCWR of less than 36,288 kilograms (80,000 pounds). They believed that the number and size of the trailers are more important than weight and that LCVs should be easily identifiable for enforcement purposes.

The Advocates for Highway and Auto Safety (AHAS) and the Owner-Operators Independent Drivers Association (OOIDA) supported a training requirement that is expanded to include vehicles not covered by the ISTEA definition of LCV. OOIDA believes that the number and size of the cargo carrying units primarily determine the handling characteristics and overall operational safety of the vehicle as opposed to the gross operating weight and length.

Those commenters opposing the expansion of the definition, including the American Trucking Associations (ATA), the Specialized Carriers and Rigging Association (SCRA), the National Private Truck Council (NPTC), Yellow Freight Systems, Inc. (Yellow Freight), and United Parcel Service (UPS), generally emphasized the importance of a consistent LCV definition and the possibility of expanding the definition at a later date. The ATA and Yellow Freight each submitted a second comment to the docket to reaffirm their opposition to any possible plans to include twins in the definition of LCV. Definition consistency and possible cost considerations, respectively, were the reasons cited.

Question 2: What difficulties would the ISTEA definition create, from an enforcement standpoint, in distinguishing which vehicles meet the definition and in determining which drivers must comply with any LCV training requirements?

Comments: Ten commenters responded to this question. Seven respondents indicated that the ISTEA definition of an LCV would create enforcement difficulties primarily because the weight aspect of the definition would make LCVs difficult to distinguish from a similar vehicle which does not meet the weight requirement. The Colorado DOT was concerned that it may be impossible for enforcement personnel, by merely viewing the combinations, to distinguish which vehicles are operating at greater than 36,288 kilograms (80,000 pounds) and therefore which drivers should have the LCV driving requirements and which should not. Pennzoil went further by recommending that a definition of LCV should “not require the measuring and weighing of LCVs.”

Three commenters stated that the ISTEA definition would not cause enforcement difficulties. The SCRA reflected the general view of the commenters by stating that “[if] the LCV definition in the ISTEA of 1991 is adopted by FMCSA we believe that enforcement people will have very little difficulty identifying longer combination vehicles * * *. They should be able to determine gross vehicle weight from shipping papers, manifest and/or weight tickets.”

Question 3: Once the training requirements for LCV drivers are established, what should the FHWA's role be in assuring that the training is actually carried out according to the minimum standards?

Comments: Thirteen respondents commented on this question. Responses were diverse. Some argued that the agency should use the Safety Review/Compliance Review (SR/CR) process to assure programmatic compliance (ATA, OOIDA, PTDI, UPS, Yellow Freight); others said the agency should make those State agencies that receive Motor Carrier Safety Assistance Program (MCSAP) funding responsible for monitoring the LCV training requirements. The NPTC suggested that the “FHWA should enhance CDL tests by including skills testing for LCV operators.” Pennzoil recommended that once the FHWA defines the LCV training requirements, it should require LCV driver applicants to provide proof of training when applying for and renewing their CDLs. In addition, Pennzoil recommended that the FHWA and State agencies establish an instructor file record.

Question 4: What standards are necessary to ensure that instructors have been adequately and properly trained and are carrying out their training responsibilities in an acceptable manner?

Comments: Thirteen respondents provided comments to this question. Their underlying theme was that instructors should be fully experienced LCV drivers and be held to a higher standard than the LCV drivers they will train. In addition, comments emphasized that the LCV instructors should be qualified and capable vocational instructors who are thoroughly familiar with course content. Pennzoil recommended that instructors be recertified every one to three years. The Maine DOT recommended instructor certification.

Question 5: Should the initial licensing of LCV instructors and certification of LCV drivers be accomplished by a Federal (FMCSA or other) or State agency? How should this be accomplished?

Comments: Twelve respondents provided comments to this question. The commenters were almost equally divided on the question whether LCV instructor certification should be accomplished by the FMCSA, rather than a motor carrier or a State, to ensure that the instructor met Federal minimum requirements. On the other hand, the commenters tended to prefer State certification of LCV drivers to certification by an LCV instructor, motor carrier, the FMCSA, or self-certification.

With regard to the certification method, the ATA suggested “LCV instructors should go through a carrier managed certification program much like the certification process for vehicle and brake inspectors. The licensing of drivers should be tied to the CDL testing process.”

The AHAS expressed the opinion “that uniformity of instruction, certification, and licensure can only be accomplished by Federal Standards through state licensing agencies and must supersede voluntary standards-setting organization and their system of certification.” Conversely, “UPS believes that each carrier should be held responsible for certification and recertification of their triples drivers and driver trainers. * * * As a practical matter, the expertise in LCV driver-training resides with motor carriers. We feel that Federal or State certification of LCV driver training is unworkable and unnecessary.” Essentially, Yellow Freight shares the same position as UPS.

Question 6: What specific Federal, State or local agency should have the responsibility for assuring that the requirements of LCV training are met, and what form of documentation should be established to prove to prospective employers that adequate LCV training has been successfully completed by a driver? Who should be held accountable if the training requirements are not met?

Comments: This question has three distinct parts: responsibility, documentation and accountability. Thirteen respondents provided comments to this question.

Eleven commenters addressed the responsibility aspect of the question. Eight were proponents of State agencies accepting the responsibility and/or linking the training requirement to the CDL program. Three commenters recommended that the FMCSA CR process be employed to further enforce this requirement. With regard to documentation of training, five of 11 commenters were in favor of a certificate issued either by a training institution or the FMCSA. Three other commenters suggested that completion of LCV training be integrated into the CDL process through the use of an appropriate endorsement.

Seven commenters addressed the accountability aspect of the question. Five of the commenters argued that both the motor carrier and the driver should be held accountable. The other two respondents were of the opinion that the driver alone should be held accountable for obtaining the required training.

Question 7: Should nonprofit, private organizations, such as PTDI, be authorized to evaluate and certify the adequacy of LCV training programs?

Comments: Of the fourteen commenters that responded, five opposed private organizations evaluating and certifying LCV training programs. Of these, three believed that this should be a Federal or State governmental function. Nine favored evaluation and certification by private organizations.

Question 8: What types of LCV driver-training programs exist?

Comments: Eight respondents provided comments on this question. The ATA stated that “[m]ost fleets that operate LCVs have established their own in-house training programs. These carrier-directed programs generally require certain levels of experience and excellent driving records prior to driving LCVs. Key eligibility criteria motor carriers impose upon drivers prior to [their] operating LCVs include no moving violations or accidents within a specified time frame (generally three years). Many carriers that operate LCVs also have age minimums for LCV drivers—typically age 25 as a minimum.” The PTDI stated that, “[t]o our knowledge, there are no 'schools” that teach a specific LCV course.” Current cost estimates to train an LCV driver range from $400 (ATA and Yellow Freight) to $6,445 per trainee (UPS).

Question 9: Should the implementation of minimum training requirements for LCV operators be “phased in” over a certain period of time?

Comments: Ten of the 12 respondents supported a “phased in” implementation of a minimum training requirement. The suggested “phase in” period ranged from one to four years. The ATA specifically supports the phase-in concept to give smaller motor carriers adequate time to plan and implement the program without undue financial hardship and because of the excellent safety record of the LCV segment of the industry.

The AHAS did not support the phasing-in of LCV training requirements. Instead, it “strongly favors a specific date by which all drivers of LCVs, western doubles and other multi-unit trucks can take the CDL LCV endorsement only with state-approved certification in hand showing successful completion of an LCV training program based on FMCSA standards.” The AHAS also suggested that the FMCSA require that the LCV training infrastructure (e.g., certification of instructors and training programs and oversight systems) be in place in advance of any actual driver-training. The NPTC suggested linkage of the LCV training requirements to the CDL program by the introduction of a CDL endorsement for LCVs.

Question 10: Should LCV training be a prerequisite for a double/triple trailer endorsement on a CDL?

Comments: Eleven of the 14 commenters generally supported a training prerequisite.

The SCRA argued that such a prerequisite could cause confusion since it would broaden the definition of LCV to include combination vehicles having a GVWR of less than 36,288 kilograms (80,000 pounds). Yellow Freight stated that “(t)riple trailer combinations specifically are only authorized in 16 States. It would be an enormous waste of motor carrier time and money to require triples driver-training of drivers in the other 34 States or of drivers, such as city drivers, who may never operate triples.” The UPS voiced a similar opinion.

Question 11: Should all LCV drivers be required to have previous experience with single trailer vehicles?

Comments: Ten of the 13 respondents contend that an individual should have CMV experience prior to becoming an LCV driver. Eight of these 10 believe that this experience should be in single-trailer vehicles. The minimum amount of single-trailer experience that was recommended ranged from one to five years. Two years was specified most often. Only two commenters (PTDI and SCRA) disagreed with the experience requirement; they contend that if a driver has a CDL and completes the required LCV training, experience should not be a factor.

Question 12: How often should LCV training be offered/repeated for both instructors and drivers?

Comments: Thirteen commenters addressed this question. Comments ranged from the suggestion that driver training be repeated whenever new equipment is introduced into the industry (ATA and Yellow Freight), to the proposal that it be repeated only if the driver is disengaged from LCV activity for more than a year (SCRA). The Colorado DOT and the New York State Thruway Authority (NYSTA) were proponents of driver retraining at the time of license renewal. Other respondents suggested retraining on a 4-to 10-year cycle, or as needed. The Maine State Police believes that once training and certification are obtained for the operation of LCVs, repeat training is not necessary. The UPS requires each of its LCV drivers to be accompanied by a UPS driver-trainer for a “certification ride” which is conducted for a period of 8 to 10 hours every 3 months. The driver is notified of any deficiency or discrepancy noted by the driver-trainer and must take immediate corrective action.

With regard to instructor training, suggestions ranged from never to every 10 years. Among the reasons commenters gave for requiring retraining were: that the instructor had not taught for more than a specified time (often one year); that the curriculum requirements had changed; or that industry technology had changed, since the instructor became qualified.

Question 13: Do specialized vehicle combinations such as triples or those handling special cargo require different training standards?

Comments: Nine of the twelve commenters supported different training requirements for specialized vehicle combinations. It was generally agreed that the focus should be upon the handling characteristics of the vehicle except when special commodities (liquids in bulk, hanging meat, etc.) are being transported. The Specialized Carriers and Rigging Association believes “ * * * Training should focus on vehicle handling characteristics and not on type of cargo being transported. Vehicle combinations that are overweight or overlength because of special cargo do not require different training standards. All LCV drivers should have training which focuses on vehicle handling characteristics (not on types of cargo being transported) and that the driver will have basic knowledge and operating skills necessary for awareness that vehicle handling characteristics change with variations in size, weight and nature of the load being transported.”

Section Analysis

This section of the Supplementary Information discusses only those sections of the proposed rule for which the FMCSA believes additional information may be required to facilitate an understanding of this NPRM.

Rule Effective Date

Question 9 in the ANPRM asked whether a phase-in period would be necessary. This question anticipated the need for States to adopt enabling legislation to implement the new requirements. Because this proposal includes no requirement applicable to States, the agency believes that a 2-month phase-in period is adequate and would provide sufficient time to develop the required training curriculum. The effective date of the rule would be 2 months after its publication in the Federal Register.

Subpart A—Longer Combination Vehicle (LCV) Driver-Training and Driver-Instructor Requirements—General

Section 380.105 Definitions

Six of 13 respondents to Question 1 recommended that the agency amend the definition of an LCV to include multiple-trailer combinations operating with a GVW less than 80,000 pounds. They believe that the number and size of the trailers are more important than weight and that LCVs should be easily identifiable for enforcement purposes. The ISTEA LCV definition would subject a relatively small segment of multiple-trailer combination vehicle drivers (approximately 35,000) to the LCV training requirements. The most commonly operated MTCVs are twin trailers, also known as “Western doubles,” and they are usually not operated at a GVW greater than 80,000 pounds. Revising the definition of an LCV to embrace only the number and size of trailers would significantly increase the number of drivers who are subject to this rule. Because agency research has not indicated a significant safety problem in LCVs or multiple trailer combination vehicles, the FMCSA is not proposing here to require such training for a larger vehicle population. FMCSA believes it can ensure a minimum level of safety by fulfilling the statutory requirement to publish minimum standards for operators of LCVs with a GVW greater than 80,000 pounds and instructors of these drivers.

In 1996, the agency conducted a study to determine, among other things, the relative accident rates, in accidents per million vehicle miles traveled (VMT), of LCVs and non-LCVs. The study findings were published in a final report entitled, Accident Rates for Longer Combination Vehicles, Publication No. FHWA-MC-97-003. A copy of the report is in the public docket. Seventy-five commercial motor carriers participated in this study. All participants operated both LCVs and non-LCVs. Significant findings were as follows:

• For the 75 carriers examined in the study, LCVs were much less likely than non-LCVs to be involved in accidents. These findings pertain only to the carrier population from which the study sample was drawn.

• Among study participants, the mean accident rate was 0.88 accidents per million VMT for LCVs versus 1.79 accidents for non-LCVs; in other words, non-LCVs were more than twice as likely as LCVs to be involved in accidents. The difference in the mean accident rates was found to be statistically significant.

• LCVs and non-LCVs had nearly equal probabilities of involvement in fatal crashes. When fatal and injury crashes were examined in tandem, however, the LCV accident rate was 50 percent lower than the non-LCV rate.

• Non-LCVs were 1.1 times more likely than LCVs to be involved in collisions, and 1.8 times more likely to be involved in non-collisions ²; these differences were statistically significant. Rocky Mountain Doubles were less likely than Turnpike Doubles and STAA Doubles/GVW Over 80,000 pounds to be involved in collisions.

² A non-collisiion is a commercial vehicle accident in which the primary event does not involve hitting another object. Non-collision accidents include jackknifes, overturns, fires, cargo shifts and spills, and running off the road.

• LCVs were almost twice as likely as non-LCVs to overturn, and LCV Doubles were more likely than tractors-semi-trailers to jackknife.

In September 1999, the agency published an Analysis Brief entitled “Longer Combination Vehicles Involved in Fatal Crashes, 1991-1996,” FHWA-MCRT-99-018. Based on the data presented in the brief, no conclusions could be made on the relative safety of LCVs compared to other truck combinations. First, the data on mileage driven is based partly on weight. Second, since travel by LCVs is rare, it is difficult to calculate the precise number of miles driven. Similarly, LCV fatal crashes are so infrequent that the number varies greatly from year to year. For example, LCV crashes dropped from 46 in 1992 to 31 in 1993 (down 33 percent), then rose to 43 in 1994 (up 39 percent). Based on the existing data, LCVs do not appear to be considerably more or less safe than other combination trucks. A more definitive conclusion would require further collection of data and additional analysis.

FMCSA recognizes that there are different names for different multiple trailer combinations in different parts of the country. The research completed under contract to the FMCSA to develop the “Multiple-Trailer Combination Vehicle Driver-Training Guide,” and the “Multiple-Trailer Combination Vehicle Driver-Training Instructor Guide” was the result of the efforts of the PTDI, and experts from the trucking industry, labor, and government. This group reached consensus on how to best identify and refer to the various combination vehicles. Accordingly, FMCSA has incorporated many of those terms into this proposed rule. In some instances, the agency proposes a different term than the PTDI-recommended one (i.e., longer double trailers would be called an LCV double; a triple trailer would be called an LCV triple.). The agency recognizes that the dynamic nature of the trucking industry may result in the development and operation of combinations that qualify as LCVs but may not be described here. We invite comment on the question of whether additional clarifying information should be added to the final rule.

Section 380.109 Driver testing

This section proposes general requirements pertaining to LCV driver-training tests—comprised of both a knowledge and skills assessment—for all students wishing to obtain an LCV Driver-Training Certificate. It would require the tests to reflect solely the information contained in the LCV driver-training programs offered and that the tests be valid and reliable student assessment tools. This section would also establish 80 percent as the minimum passing score for the knowledge tests, as is the current standard for the CDL knowledge tests offered by the States. If, during the skills portion of the test, the student fails to obey traffic laws or is involved in a preventable accident, he/she would automatically fail the LCV driver-training test.

Section 380.111 Substitute for driver training

FMCSA believes that for many current LCV drivers, the combination of a good driving record and experience with a representative vehicle of the specific LCV category is an appropriate indication that the individual has the minimum knowledge and driving skills to operate such a vehicle. Accordingly, the FMCSA would allow certain drivers to substitute a good driving record and experience for the completion of the LCV driver-training requirements. FMCSA believes grandfathering such drivers would not diminish public safety or overall safe operation of CMVs. The driver would have to provide the employing motor carrier evidence of safely operating those vehicles for a period of at least 2 years prior to application.

The FMCSA is proposing that a motor carrier issue a Certificate of Grandfathering to those drivers who meet the knowledge and experience requirements established in this section. A copy of the certificate would be filed in the Driver Qualification file. Grandfathered drivers would be excluded from the training requirements of this part. This action is consistent with that taken when the agency grandfathered certain drivers from the CDL skills tests contained in part 383. Current drivers could only be grandfathered for a one-year period immediately after the effective date of the final rule. After the one-year period, only those drivers who present an employer with a Certificate of Grandfathering would be exempted from LCV driver-training requirements.

Section 380.113 Employer responsibilities

This section would expressly prohibit a motor carrier from using an individual to operate an LCV unless he/she has first met the requirements under part 380. Section 380.113(b) would address ANPRM Question 2 regarding roadside enforcement challenges and Question 3 regarding the FMCSA role in enforcement. Under the current proposal, FMCSA or MCSAP State enforcement officials would verify compliance with the LCV driver-training and driver-instructor requirements at the carrier's place of business during the compliance review, rather than at the roadside. The enforcement official would not be burdened with trying to determine at roadside whether or not a CMV driver is subject to the LCV training requirement. This enforcement approach would also emphasize that both the motor carrier and the driver have a responsibility for the LCV training requirement. The driver would have to obtain the necessary LCV training and the carrier would have to prohibit a driver from operating an LCV without it.

Subpart B—LCV Driver-Training Program

Sections 380.203 and 380.205 set forth the specific conditions that one would have to meet to qualify for LCV driver training. The individual seeking LCV training would have to possess a valid CDL with a double/triple trailer endorsement, have only one driver's license, have a good driving record, and provide evidence of experience in operating the prerequisite type of vehicle to qualify for the desired LCV training. Evidence of driving experience would consist of a statement from an employer(s) stating the type and amount of driving experience while employed by that motor carrier.

Subpart C—LCV Driver-Instructor Requirements

Section 380.301 General requirements

The FMCSA believes that, initially, persons who are currently conducting double/triple trailer combination vehicle training would become the qualified LCV instructors under the proposed grandfather requirements. Subsequently, when the need arises for new instructors, those qualified (grandfathered) LCV instructors would train new instructors, who would then be qualified to train drivers.

Each instructor that is employed by a training institution offering LCV training would have to meet all State requirements for a vocational education instructor. While the States assume varying degrees of control over education, institutions of post-secondary education are permitted to operate with considerable independence and autonomy. As a consequence, educational institutions can vary widely in the quality and adequacy of their programs. In order to ensure a basic level of quality and adequacy, the Department of Education established accreditation requirements. The FMCSA, therefore, proposes that any entity, for-profit or not-for-profit, private or public, that meets the accreditation requirements of the Department of Education would be allowed to offer the training.

Section 380.303 Substitute for instructor requirements

As is the case for LCV drivers, certain current driver-instructors would be grandfathered from the instructional skills requirements. Those instructors desiring to be grandfathered would provide evidence of eligibility to the motor carrier. The motor carrier would file the proof of eligibility in the LCV instructor qualification file proposed under § 391.53.

Subpart D—Driver-Training Certification

Section 380.401 Certification document

The FMCSA proposes to require a certifying official of the training entity to issue a certificate to each driver who successfully completes LCV driver-training. The driver would provide the motor carrier a copy of the LCV Driver-Training Certificate as proof of eligibility to operate an LCV. The certificate would indicate the type(s) of LCV which the driver is qualified to operate.

The motor carrier must file the copy of the certificate in the Driver Qualification file and present it to an authorized FMCSA, State or local official, upon request. The driver would need to safeguard the original certificate, as it is proof to future employers of eligibility to operate an LCV.

Appendix to Part 380

The FMCSA believes that specialized vehicle combinations require somewhat different training requirements because of differing operating characteristics. Therefore, the FMCSA proposes two separate training courses for LCV drivers: LCV Doubles and LCV Triples. The proposed curriculum would be identical but must be customized to address the unique operational and handling characteristics of the specific LCV category. Specialized commodity training could be addressed as necessary by training institutions or carriers.

In developing the proposed course content, the FMCSA considered research conducted by the PTDI while under contract to the agency. The FMCSA acknowledges that the actual training materials will be developed by the motor carrier industry or other commercial training entities. Such training materials would have to meet the minimum requirements set forth in the appendix to part 380. This action would allow the training entities a degree of flexibility in the development of specific materials to meet their individual needs.

The FMCSA is seeking very specific comments on whether you consider the topics of instruction described in the appendix to part 380 as adequate, requiring modification or needing to be eliminated. Please submit reasons supporting your response. Comments should address specific subject areas (training units) and include rationale supporting each recommendation with regard to course content. Any recommendations to add to the curriculum outline, with regard to course content, should also be addressed in a similar manner.

Part 391—Qualifications of Drivers and Longer Combination Vehicle (LCV) Driving Instructors

The FMCSA would amend 49 CFR part 391 to add new requirements under § 391.53 for a motor carrier to maintain a qualification file for LCV driver instructors and rename part 391 to reflect these new requirements.

Summary of the Proposed Regulatory Evaluation

In accordance with a Congressional mandate, this NPRM proposes minimum training requirements for operators of certain multiple trailer vehicles. The NPRM proposes, with limited exceptions, that drivers who do not currently operate these vehicles would complete training before operating double- or triple-trailer commercial motor vehicles. Most drivers who currently operate these vehicles will be exempted from these training requirements. The NPRM also outlines requirements for employers of drivers, LCV driver-instructors, and enforcement and administrative personnel. This preliminary regulatory evaluation analyzes the costs and benefits of the NPRM.

Congress directed the FMCSA to publish regulations concerning training of a driver of an LCV, which it defined as “any combination of a truck tractor and 2 or more trailers or semi-trailers which operate on the National System of Interstate and Defense Highways with a gross vehicle weight greater than 80,000 pounds.”

Approximately 35,000 drivers currently operate LCVs, most of whom will be grandfathered. Approximately 1,200 LCV drivers would require training annually. ANPRM docket comments and information from industry representatives and analysts suggest that LCV drivers are currently obtaining about half the estimated amount of training, approximately 50 hours. The net cost of training (including drivers' wages) is $45.50 an hour. This results in a ten-year cost of approximately $28 million.

Precisely quantifying the benefits of this rule is difficult. Congress clearly assumed that increased training reduces accident rates, and many analysts agree with this position. However, quantitative data examining the relationship between training and accident rates is not plentiful, and those studies we have located have not found a strong and consistent relationship. Therefore, we performed sensitivity analysis, estimating the benefits from a range of reductions in drivers' accident rates for those who have received training. Net benefits ranged from -$10 million for a 5% reduction in the accident rate to $144 million for a 50% reduction. Table 1 presents the results for a number of possible deterrence levels.

Table 1.—Benefit Cost Ratio with Different Accident Rate Reductions
Crash reduction | 5% | 10% | 15% | 20%
B/C Ratio | 0.6 | 1.2 | 1.8 | 2.5

Table 2 shows costs, benefits, and the number of accidents and drivers that would be affected by these proposals, with an assumed 10% reduction in accidents.

Table 2.—Summary Results with 10% Accident Rate Reductions
[millions of dollars]
# Trained annually | 10-Year costs | 10-Year benefits | Net benefits | B/C ratio | Crashes prevented
1,172 | $28.0 | $34.4 | $6.4 | 1.2 | 315

This analysis assumes that the proposal will require that prospective LCV drivers obtain an additional 50 hours of training. This is a conservative estimate, in that it is on the high end of the range of likely training time. Nonetheless, because of uncertainty over how many hours of training will be required, we performed sensitivity analysis for different assumed hours of training. As expected, the sensitivity analysis shows that net benefits move in the opposite direction of the number of hours. We invite comments from reviewers about the amount of training needed to meet the requirements of this proposal, including supporting rationale.

All costs and benefits are over a ten-year period, and are discounted at a 7% rate. The agency has placed a copy of the full Regulatory Evaluation in the public docket.

Rulemaking Analyses and Notices

Executive Order 12866 (Regulatory Planning and Review) and DOT Regulatory Policies and Procedures

The FMCSA has determined that this action is a significant regulatory action within the meaning of E.O. 12866, and is significant within the meaning of the Department of Transportation's regulatory policies and procedures (DOT Order 2100.5 dated May 22, 1980; 44 FR 11034, February 26, 1979) because of significant public interest in the issues relating to CMV safety and training of certain CMV drivers. This proposed rule has been reviewed by the Office of Management and Budget under E.O. 12866.

Regulatory Flexibility Act

Under the Regulatory Flexibility Act (5 U.S.C. 601-612), an agency is required to evaluate proposed rulemakings to determine the effects of its action upon small entities. FMCSA does not believe that these proposals meet the threshold values for requiring a full-blown regulatory analysis, since the anticipated impact is relatively small. Nonetheless, because of the public interest in these proposals, we have prepared a regulatory analysis and placed a copy in the docket to this IFR. The mandatory topics to be considered in a Regulatory Flexibility Analysis and agency findings are as follows.

(1) A description of the reasons why the action by the Agency is being considered. This action is being considered in response to Congressional direction. Specifically, section 4007 of the Intermodal Surface Transportation Efficiency Act of 1991 directed the Secretary of Transportation to promulgate regulations requiring training for LCV drivers.

(2) A succinct statement of the objectives of, and legal basis for, the proposed rule. The objective for this action is to reduce the number of crashes caused by drivers of LCVs. Congress was specifically concerned about the number of LCV crashes caused by inadequate driver training, and believes that better training will reduce these types of crashes. As noted above, the legal basis for this rule is section 4007 of the Intermodal Surface Transportation Efficiency Act of 1991.

(3) A description and, where feasible, an estimate of the number of small entities to which the proposed rule will apply. This action would apply to relatively few small entities that own or operate LCVs, and to drivers that drive LCVs.

(4) A description of the projected reporting, recordkeeping, and other compliance requirements of the proposed rule, including an estimate of the classes of small entities that will be subject to the requirement and the types of professional skills necessary for preparation of the report or record. This action would impose a very modest burden on small entities, since it largely regulates the actions of drivers rather than motor carriers. Nonetheless, this action does impose some reporting and recordkeeping requirements on motor carriers. The primary carrier requirement would be to verify drivers' eligibility before allowing them to operate an LCV. In addition, carriers must maintain in the driver qualification (DQ) file a copy of the required driver-training certificate. Carriers are currently required to maintain a DQ file for each driver, as outlined in Part 391 of the FMCSRs. No special skills are required to verify eligibility to operate an LCV or to place a driver training certificate in a DQ file.

(5) An identification, to the extent practicable, of all relevant federal rules that may duplicate, overlap, or conflict with the proposed rule. The FMCSA is not aware of any other rules which duplicate, overlap, or conflict with the proposed action.

Accordingly, the FMCSA hereby certifies that the proposed action discussed in this document will not have a significant economic impact on a substantial number of small entities.

Executive Order 13132 (Federalism)

This action has been analyzed in accordance with the principles and criteria contained in Executive Order 13132. It has been determined that this rulemaking does not have a substantial direct effect on States, nor would it limit the policy-making discretion of the States. Nothing in this document preempts any State law or regulation.

Executive Order 12372 (Intergovernmental Review)

Catalog of Federal Domestic Assistance Program Number 20.217, Motor Carrier Safety. The regulations implementing Executive Order 12372 regarding intergovernmental consultation on Federal programs and activities do not apply to this program.

Paperwork Reduction Act

Under the Paperwork Reduction Act of 1995 (PRA) (44 U.S.C. 3501 et seq.), Federal agencies must obtain approval from the Office of Management and Budget (OMB) for each collection of information they conduct, sponsor, or require through regulations. An analysis of this proposal was made by the FMCSA, and it has determined that the final rule, when promulgated, would create a new collection of information requiring OMB's approval. This PRA section addresses the information collection burden for certifying new LCV drivers, as well as the burden associated with grandfathering, via certification, most current LCV drivers.

The FMCSA estimates that there are 35,000 LCV drivers currently operating, the vast majority of whom would be eligible to be grandfathered under the new training requirements set forth in this NPRM. The agency also estimates that approximately 1,200 new LCV drivers would require training each year. There would be a burden to the motor carrier or other training entity to complete, photocopy, and file the certification form. FMCSA estimates this will take 10 minutes, resulting in an annual burden of 200 hours [1,200 drivers × 10 minutes per motor carrier/training entity, divided by 60 minutes = 200].

For grandfathering the current 35,000 drivers, there would be a one-time burden, since drivers could only be grandfathered during the first year after the rule becomes effective. There are two parts to the burden for these 35,000 drivers: the burden for the driver to collect and provide the information to the motor carrier and the burden for the motor carrier to review the documents, complete, duplicate, and file the certification form. FMCSA estimates that it would take approximately 15 minutes for a driver to collect the necessary information and provide the document to the motor carrier, and 15 minutes for the motor carrier to review the information, complete the certification, and duplicate and file the document. Therefore, the burden associated with grandfathering the 35,000 drivers would be 17,500 burden hours [(35,000 × 15 minutes per driver, divided by 60 minutes = 8,750) + (35,000 × 15 minutes per motor carrier, divided by 60 minutes = 8,750) = 17,500].

The first-year burden associated with this rule, when promulgated, is 17,700 burden hours [200 + 17,500]. After the first year, the burden would drop to 200 burden hours per year.

Interested parties are invited to send comments regarding any aspect of these information collection requirements, including, but not limited to: (1) Whether the collection of information is necessary for the performance of the functions of the FMCSA, including whether the information has practical utility, (2) the accuracy of the estimated burden, (3) ways to enhance the quality, utility, and clarity of the collected information, and (4) ways to minimize the collection burden without reducing the quality of the information collected.

National Environmental Policy Act

The FMCSA is a new administration within the Department of Transportation (DOT). The agency is striving to meet all of the statutory and executive branch requirements on rulemaking. The FMCSA is currently developing an agency order that will comply with all statutory and regulatory policies under the National Environmental Policy Act of 1969 (NEPA)(42 U.S.C. 4321 et seq.). The agency expects the draft FMCSA Order to appear in the Federal Register for public comment in the near future. The framework of the FMCSA Order is consistent with and reflects the procedures for considering environmental impacts under DOT Order 5610.1C. The FMCSA analyzed this NPRM under the NEPA and DOT Order 5610.1C. Since this action relates only to driver-training and instructor-qualification standards, the agency believes that it would be among the type of regulations that would be categorically excluded from any environmental assessment.

Executive Order 13211 (Energy Supply, Distribution, or Use)

We have analyzed this action under Executive Order 13211, Actions Concerning Regulations That Significantly Affect Energy Supply, Distribution, or Use. This action is not a significant energy action within the meaning of Section 4(b) of the Executive Order because it is not likely to have a significant adverse effect on the supply, distribution, or use of energy. This proposed rule establishes training requirements for operators of LCVs and sets forth requirements for trainers of such operators. This action has no effect on the supply or use of energy, nor do we believe it will cause a shortage of drivers qualified to distribute energy (e.g., gasoline, fuel oil, etc.).

Unfunded Mandates Reform Act of 1995

This proposed rule would not impose a Federal mandate resulting in the expenditure by State, local, or tribal governments, in the aggregate, or by the private sector, of $100 million or more in any one year. (2 U.S.C. 1531 et seq.) Under this proposal, there are no costs to States, and costs to the private sector should be minimal. This action proposes minimum training standards for operators of LCVs. Although not required to do so under the FMCSRs, motor carriers routinely provide similar training to their drivers who operate LCVs. The proposal would not stipulate that motor carriers must provide such training, but requires them to use only those drivers and driver-instructors who have met the proposed standards. LCV drivers and driver-instructors would be responsible for the cost of meeting the requirements.

Executive Order 12630 (Taking of Private Property)

This rule will not effect a taking of private property or otherwise have taking implications under E.O. 12630, Governmental Actions and Interference with Constitutional Protected Property Rights.

Executive Order 12988 (Civil Justice Reform)

This action meets applicable standards in sections 3(a) and 3(b)(2) of E.0. 12988, Civil Justice Reform, to minimize litigation, eliminate ambiguity, and reduce burden.

Executive Order 13045 (Protection of Children)

We have analyzed this action under Executive Order 13045, Protection of Children from Environmental Health Risks and Safety Risks. This rule sets forth training requirements for LCV drivers and sets standards for instructors of such drivers. Therefore, the FMCSA certifies that this action is not an economically significant rule and does not concern an environmental risk to health or safety that may disproportionately affect children.

List of Subjects

49 CFR part 380

Driver training, instructor requirements.

49 CFR part 391

Highways and roads, Motor vehicle safety.

In consideration of the foregoing, the FMCSA hereby proposes to amend title 49, Code of Federal Regulations, chapter III, subchapter B, as set forth below.

1. Chapter III is amended by adding part 380 to read as follows:

PART 380—SPECIAL TRAINING REQUIREMENTS

Subpart A—Longer Combination Vehicle (LCV) Driver-Training and Driver-Instructor Requirements—General
Sec.
380.101 Purpose and scope.
380.103 Applicability.
380.105 Definitions.
380.107 General requirements.
380.109 Driver testing.
380.111 Substitute for driver training.
380.113 Employer responsibilities.
Subpart B—LCV Driver-Training Program
380.201 General requirements.
380.203 LCV Doubles.
380.205 LCV Triples.
Subpart C—LCV Driver-Instructor Requirements
380.301 General requirements.
380.303 Substitute for instructor requirements.
380.305 Employer responsibilities.
Subpart D—Driver-Training Certification
380.401 Certification document.
Appendix to Part 380—LCV Driver Training Programs, Required Knowledge and Skills

Authority: 49 U.S.C. 31136, 31307, and 31502; Sec. 4007(b) of Pub. L. 102-240 (105 Stat. 2152); 49 CFR 1.73.

Subpart A—General

§ 380.101 Purpose and scope.

(a) Purpose. The purpose of this part is to establish minimum requirements for operators of longer combination vehicles (LCVs) and LCV driver-instructors.

(b) Scope. This part establishes:

(1) Minimum training requirements for operators of LCVs;

(2) Minimum qualification requirements for LCV driver-instructors; and

(3) Procedures for determining compliance with this part by operators, instructors, training institutions, and employers.

§ 380.103 Applicability.

The rules in this part apply to all operators of LCVs in interstate commerce, employers of such persons, and LCV driver-instructors.

§ 380.105 Definitions.

(a) The definitions in part 383 of this subchapter apply to this part, except where otherwise specifically noted.

(b) As used in this part:

Longer combination vehicle (LCV) means any combination of a truck-tractor and two or more trailers or semi-trailers, which operate on the National System of Interstate and Defense Highways with a gross vehicle weight (GVW) greater than 36,288 kilograms (80,000 pounds).

LCV Double means a Rocky Mountain double or a turnpike double.

LCV Triple means an LCV consisting of a truck-tractor in combination with three trailers and/or semi-trailers.

Qualified LCV driver-instructor means an instructor meeting the requirements contained in subpart B of this part.

Rocky Mountain double means an LCV consisting of a truck-tractor in combination with a longer semi-trailer, usually 13.716 to 16.154 meters (45 to 53 feet) long, and a shorter trailer usually 8.230 to 8.687 meters (27 to 28.5 feet) long.

Training institution means any technical or vocational school accredited by an accrediting institution recognized by the U.S. Department of Education.

Turnpike double means an LCV consisting of a truck-tractor in combination with two trailers or semi-trailers, each 13.716 meters (45 feet) or more in length.

Twin trailers means a truck-tractor in combination with two trailers and/or semi-trailers of approximately equal lengths, each 7.925 to 8.687 meters (26 to 28.5 feet) long and commonly referred to as “twins” or “Western doubles.” For the purposes of this part, this definition includes a truck in combination with two short trailers, each 7.925 to 8.687 meters (26 to 28.5 feet) long.

Western double means the same thing as twin trailers.

§ 380.107 General requirements.

(a) A driver who wishes to operate an LCV shall first take and successfully complete an LCV driver-training program that provides the knowledge and skills necessary to operate an LCV. The specific types of knowledge and skills that a training program shall include are outlined in the appendix to this part.

(b) Before a person receives training:

(1) That person shall present evidence to the LCV driver-instructor showing that he/she meets the general requirements set forth in subpart B of this part for the specific type of LCV training to be taken.

(2) The LCV driver-instructor shall verify that each trainee applicant meets the general requirements for the specific type of LCV training to be taken.

(c) Upon successful completion of the training requirement, the driver-student shall be issued an LCV driver-training certificate by a certifying official of the training entity in accordance with the requirements specified in subpart D of this part.

§ 380.109 Driver testing.

(a) Testing Methods. A qualified LCV driver-instructor must administer to the driver-student knowledge and skills tests in accordance with the following requirements to determine whether a driver-student has successfully completed an LCV driver-training program, as specified in subpart B of this part.

(1) All tests shall be constructed in such a way as to determine if the driver-student possesses the required knowledge and skills set forth in the appendix to this part for the specific type of LCV training program being taught.

(2) Instructors shall develop their own tests for the specific type of LCV-training program being taught, but those tests must be at least as stringent as the requirements set forth in paragraph (b) of this section.

(3) LCV driver-instructors shall establish specific methods for scoring the knowledge and skills tests.

(4) Passing scores must meet the requirements of paragraph (b) of this section.

(5) Knowledge and skills tests shall be based upon the information taught in the LCV training programs as set forth in the appendix to this part.

(6) Each knowledge test shall address the training provided during both theoretical and behind-the-wheel instruction and include at least one question from each of the units listed in the Table to the appendix to this part, for the specific type of LCV training program being taught.

(7) Each skills test shall include all the maneuvers and operations practiced during the Proficiency Development unit of instruction (behind-the-wheel instruction) as described in the appendix to this part, for the specific type of LCV training program being taught.

(b) Proficiency determinations. The driver-student must meet the following conditions to be certified as an LCV driver:

(1) Answer correctly at least 80 percent of the questions on each knowledge test; and

(2) Demonstrate that he/she can successfully perform all of the skills addressed in paragraph (a)(7) of this section.

(c) Automatic test failure. Failure to obey traffic laws or involvement in a preventable accident during the skills portion of the test will result in automatic failure.

§ 380.111 Substitute for driver-training.

(a) Grandfather clause. The LCV driver-training requirements specified in subpart B of this part do not apply to an individual who meets the conditions set forth in paragraphs (b), (c), and (d) of this section. A motor carrier must ensure that an individual claiming eligibility to operate an LCV on the basis of this section meets these conditions before allowing him/her to operate an LCV.

(b) An individual must certify that, during the 2-year period immediately preceding the date of application for a Certificate of Grandfathering, he/she had:

(1) A valid Class A CDL with a “double/triple trailers” endorsement;

(2) No more than one driver's license;

(3) No suspension, revocation, or cancellation of his/her CDL;

(4) No convictions for a major offense while operating a CMV as defined in § 383.51(b) of this subchapter;

(5) No convictions for a railroad-highway grade crossing offense while operating a CMV as defined in § 383.51(d) of this subchapter;

(6) No convictions for violating an out-of-service order as defined in § 383.51(e) of this subchapter;

(7) No more than one conviction for a serious traffic violation, as defined in § 383.5 of this subchapter, while operating a CMV;

(8) No convictions for a violation of State or local law relating to motor vehicle traffic control arising in connection with any traffic accident while operating a CMV; and

(9) No accident in which he/she was found to be at fault, while operating a CMV.

(c) An individual must certify and provide evidence that he/she:

(1) Is regularly employed in a job requiring the operation of a CMV that requires a CDL with a double/triple trailers endorsement; and

(2) Has operated, for at least 2 years immediately preceding the date of application for a Certificate of Grandfathering, vehicles representative of the type of LCV that he/she seeks to continue operating.

(d) A motor carrier must issue a Certificate of Grandfathering, which is substantially in accordance with the form below, to an individual that meets the requirements of this section and maintain a copy of the certificate in his/her Driver Qualification file.

(e) An applicant may only satisfy the conditions in this section as a substitute for the LCV driver-training requirements specified in subparts A and B of this part during one year after [The effective date of the final rule.].

§ 380.113 Employer responsibilities.

(a) No motor carrier shall:

(1) Allow, require, permit or authorize an individual to operate an LCV unless he/she meets the requirements in §§ 380.203 and 380.205 and has been issued the LCV driver-training certificate described in § 380.401. This provision does not apply to individuals that are eligible for the substitute for driver training provision in § 380.111.

(2) Allow, require, permit or authorize an individual to operate an LCV which the LCV driver-training certificate, CDL and endorsement(s) do not authorize the driver to operate. This provision applies to individuals employed by or under contract to the motor carrier.

(b) A motor carrier that employs or has under contract LCV drivers shall provide evidence of the certifications required by § 380.401 or § 380.111 of this part when requested by an authorized FMCSA, State or local official in the course of a compliance review.

Subpart B—LCV Driver Training Program

§ 380.201 General requirements.

(a) The LCV Driver-Training Program that is described in the appendix to this part requires training using an LCV Double or LCV Triple and must include the following general categories of instruction:

(1) Orientation;

(2) Basic operation;

(3) Safe operating practices;

(4) Advanced operations; and

(5) Non-driving activities.

(b) The LCV Driver-Training Program must include the minimum topics of training set forth in the appendix to this part and behind-the-wheel instruction that is designed to provide an opportunity to develop the skills outlined under the Proficiency Development unit of the training program.

§ 380.203 LCV Doubles.

(a) To qualify for the training necessary to operate an LCV Double, a driver-student shall, for at least the 6 months immediately preceding application for training, have:

(1) A valid Class A CDL with a double/triple trailer endorsement;

(2) Driving experience in a Group A vehicle as described in § 383.91 of this subchapter. Evidence of driving experience shall be an employer's statement that the driver has for at least 6 months immediately preceding application operated a Group A vehicle while under his/her employ;

(3) No more than one driver's license;

(4) No suspension, revocation, or cancellation of his/her CDL;

(5) No convictions for a major offense, as defined in § 383.51(b) of this subchapter, while operating a CMV;

(6) No convictions for a railroad-highway grade crossing offense, as defined in § 383.51(d) of this subchapter, while operating a CMV;

(7) No convictions for violating an out-of-service order as defined in § 383.51(e) of this subchapter;

(8) No more than one conviction for a serious traffic violation, as defined in § 383.5 of this subchapter, while operating a CMV;

(9) No convictions for a violation of State or local law relating to motor vehicle traffic control arising in connection with any traffic accident while operating a CMV, and

(10) No accident in which he/she was found to be at fault, while operating a CMV.

(b) Driver-students meeting the preliminary requirements in paragraph (a) of this section shall successfully complete a training program that meets the minimum unit requirements for LCV Doubles as set forth in the appendix to this part.

(c) Driver-students who successfully complete the Driver Training Program for LCV Doubles shall be issued a certificate, in accordance with subpart D of this part, indicating the driver is qualified to operate an LCV Double.

§ 380.205 LCV Triples.

(a) To qualify for the training necessary to operate an LCV Triple, a driver-student shall, for at least the 6 months immediately preceding application for training, have:

(1) A valid Class A CDL with a double/triple trailer endorsement;

(2) Experience operating the vehicle listed under paragraph (a)(2)(i) or (a)(2)(ii) of this section. Evidence of driving experience shall be an employer's statement that the driver has for at least 6 months immediately preceding application operated the applicable vehicle(s).

(i) Group A truck-tractor/semi-trailer combination as described in § 383.91 of this subchapter; or

(ii) Twin trailer as defined under § 380.105;

(3) No more than one driver's license;

(4) No suspension, revocation, or cancellation of his/her CDL;

(5) No convictions for a major offense, as defined in § 383.51(b) of this subchapter, while operating a CMV;

(6) No convictions for a railroad-highway grade crossing offense, as defined in § 383.51(d) of this subchapter, while operating a CMV;

(7) No convictions for violation of an out-of-service order, as defined in § 383.51(e) of this subchapter;

(8) No more than one conviction for a serious traffic violation, as defined in § 383.5 of this subchapter, while operating a CMV;

(9) No convictions for a violation of State or local law relating to motor vehicle traffic control arising in connection with any traffic accident, while operating a CMV, and

(10) No accident in which he/she was found to be at fault, while operating a CMV.

(b) Driver-students meeting the preliminary requirements in paragraph (a) of this section shall successfully complete a training program that meets the minimum unit requirements for LCV Triples as set forth in the appendix to this part.

(c) Driver-students who successfully complete the Driver Training Program for LCV Triples shall be issued a certificate, in accordance with subpart D of this part, indicating the driver is qualified to operate an LCV Triple.

Subpart C—LCV Driver-Instructor Requirements

§ 380.301 General requirements.

Except as provided in § 380.303, to qualify as an LCV driver-instructor, a person shall:

(a) Provide evidence of successful completion of the Driver-Training Program requirements, as required in subpart B of this part, when requested by employers and/or an authorized FMCSA, State or local official in the course of a compliance review. The Driver-Training Program must be for the operation of CMVs representative of the subject matter that he/she will teach.

(b) Meet all State requirements for a vocational instructor, if employed by a training institution;

(c) Possess a valid Class A CDL with all endorsements necessary to operate the CMVs applicable to the subject matter being taught (LCV Doubles and/or LCV Triples); and

(d) Have at least 2 years CMV driving experience in a vehicle representative of the type of Driver-Training to be provided (LCV Doubles or LCV Triples).

§ 380.303 Substitute for instructor requirements.

Section 380.301 does not apply to a driver-instructor candidate who:

(a) Meets all State requirements for a vocational instructor, if employed by a training institution;

(b) Meets the conditions of § 380.111(b);

(c) Has CMV driving experience during the previous 2 years in a vehicle representative of the type of LCV that is the subject of the training course to be provided;

(d) Has experience during the previous 2 years in teaching applicable programs similar in content to that set forth in the appendix to this part.

§ 380.305 Employer responsibilities.

(a) No motor carrier shall:

(1) Knowingly allow, require, permit or authorize a driver-instructor in its employ or under contract to the motor carrier to provide LCV driver-training unless such person is a qualified LCV driver-instructor under the requirements of this subpart; or

(2) Contract with a training institution to provide LCV driver-training unless the institution:

(i) Uses instructors who are qualified LCV driver-instructors under the requirements of this subpart;

(ii) Is accredited by an accrediting institution recognized by the U.S. Department of Education;

(iii) Is in compliance with all applicable State training school requirements; and

(iv) Identifies drivers certified under § 380.401 of this part, when requested by employers and/or an authorized FMCSA, State or local official in the course of a compliance review.

(b) A motor carrier that employs or has under contract qualified LCV driver-instructors, shall provide evidence of the certifications required by § 380.301 or § 380.303 of this part, when requested by an authorized FMCSA, State or local official in the course of a compliance review.

Subpart D—Driver-Training Certification.

§ 380.401 Certification document.

(a) A student who successfully completes LCV driver-training shall be issued a Driver-Training Certificate that is substantially in accordance with the following form.

(b) An LCV driver must provide a copy of the Driver-Training Certificate to his/her employer to be filed in the Driver Qualification File.

Appendix to Part 380—LCV Driver Training Programs, Required Knowledge and Skills

The following table lists topics of instruction required for drivers of longer combination vehicles pursuant to 49 CFR part 380, subpart B. The training courses for operators of LCV Doubles and LCV Triples must be distinct and tailored to address their unique operating and handling characteristics. Each course must include the minimum topics of instruction, including behind-the-wheel training designed to provide an opportunity to develop the skills outlined under the Proficiency Development unit of the training program.

Table to the Appendix—Course Topics for LCV Drivers
Section 1: Orientation
1.1 | LCVs in Trucking.
1.2 | Regulatory Factors.
1.3 | Driver Qualifications.
1.4 | Vehicle Configuration Factors.
Section 2: Basic Operation
2.1 | Inspection.
2.2 | Coupling and Uncoupling.
2.3 | Basic Control and Handling.
2.4 | Basic Maneuvers.
2.5 | Turning, Steering and Tracking.
2.6 | Proficiency Development.
Section 3: Safe Operating Practices
3.1 | Interacting with Traffic.
3.2 | Speed and Space Management.
3.3 | Night Operations.
3.4 | Extreme Driving Conditions.
3.5 | Security Issues.
3.6 | Proficiency Development.
Section 4: Advanced Operations
4.1 | Hazard Perception.
4.2 | Hazardous Situations.
4.3 | Maintenance and Troubleshooting.
Section 5: Non-Driving Activities
5.1 | Routes and Trip Planning.
5.2 | Cargo and Weight Considerations.

Section 1—Orientation

The units in this section shall provide an orientation to the training curriculum and shall cover the role LCVs play within the motor carrier industry, the factors that affect their operations, and the role the drivers play in the safe operation of LCVs.

Unit 1.1—LCVs in Trucking. This unit must provide an introduction to the emergence of LCVs in trucking and serves as an orientation to the course content. Emphasis shall be placed upon the role the driver plays in transportation.

Unit 1.2—Regulatory Factors. This unit must provide instruction addressing the Federal, State, and local governmental bodies that propose, enact, and implement the laws, rules, and regulations that affect the trucking industry. Emphasis must be placed on those regulatory factors that affect LCVs.

Unit 1.3—Driver Qualifications. This unit must provide classroom instruction addressing the Federal and State laws, rules, and regulations that define LCV driver qualifications. It must also include a discussion on medical examinations, drug and alcohol tests, certification, and basic health and wellness issues. Emphasis must be placed upon topics essential to physical and mental health maintenance, including (1) diet, (2) exercise, (3) avoidance of alcohol and drug abuse, (4) the adverse effects of driver fatigue, and (5) effective fatigue countermeasures.

Unit 1.4—Vehicle Configuration Factors. This unit must provide classroom instruction addressing the key vehicle components used in the configuration of combination vehicles. It also must provide familiarization with various vehicle combinations, as well as provide instruction about unique characteristics and factors associated with LCV configurations.

Section 2—Basic Operation.

The units in this section cover the interaction between the driver and the vehicle. They are intended to teach driver-trainees how to inspect, couple and uncouple LCVs, ensure the vehicles are in the proper operating condition, and control the motion of LCVs under various road and traffic conditions.

During the driving exercises at off-highway locations required by this section, the driver-trainee must first familiarize himself/herself with basic operating characteristics of an LCV. Utilizing an LCV, the students must be able to perform the skills learned in each unit to a level of proficiency required to permit safe transition to on-street driving.

Unit 2.1—Inspection. This unit must provide instruction addressing the systematic vehicle inspection of LCV tractor-trailer combinations, including pre-trip, en route, and post-trip inspection procedures. While vehicle inspections are common in all CMV operations, some factors are peculiar to LCVs. Emphasis must be placed upon component failure recognition.

Unit 2.2—Coupling and Uncoupling. This unit must provide instruction addressing the procedures for coupling and uncoupling LCVs. While vehicle coupling and uncoupling procedures are common with all truck-tractor/semitrailer operations, some factors are peculiar to LCVs. Emphasis must be placed upon preplanning and safe operating procedures.

Unit 2.3—Basic Control and Handling. This unit must provide an introduction to basic vehicular control and handling as it applies to LCVs. This must include instruction addressing brake performance, handling characteristics and factors affecting LCV stability while braking, turning, and cornering. Emphasis must be placed upon safe operating procedures.

Unit 2.4—Basic Maneuvers. This unit must provide instruction addressing the basic vehicular maneuvers that will be encountered by LCV drivers. This must include instruction relative to backing, lane positioning and path selection, merging situations, and parking LCVs. Emphasis must be placed upon safe operating procedures as they apply to brake performance and directional stability while accelerating, braking, merging, cornering, turning, and parking.

Unit 2.5—Turning, Steering, and Tracking. This unit must provide instruction addressing turning situations, steering maneuvers, and the tracking of LCV trailers. This must include instruction relative to trailer sway and off-tracking. Emphasis must be placed on maintaining directional stability.

Unit 2.6—Proficiency Development: Basic Operations. The purpose of this unit is to enable driver-students to gain the proficiency in basic operation needed to safely undertake on-street instruction in the Safe Operations Practices section of the curriculum.

The activities of this unit must consist of driving exercises that provide practice for the development of basic control skills and mastery of basic maneuvers. Driver-students practice skills and maneuvers learned in the Basic Control and Handling; Basic Maneuvers; and Turning, Steering and Tracking Units. A series of basic exercises are practiced on off-highway locations until students develop sufficient proficiency for transition to on-street driving.

Once the driver-student's skills have been measured and found to be adequate, the driver-student must be allowed to move to on-the-street driving.

Nearly all activity in this unit will take place on the driving range or on streets or roads that have low-density traffic conditions.

Section 3—Safe Operating Practices

The units in this section must cover the interaction between student drivers, the vehicle, and the traffic environment. They must teach driver-students how to apply their basic operating skills in a way that ensures their safety and that of other road users under various road, weather, and traffic conditions.

Unit 3.1—Interacting with Traffic. This unit must provide instruction addressing the principles of visual search, communication, and sharing the road with other traffic. Emphasis must be placed upon visual search, mirror usage, signaling and/or positioning the vehicle to communicate, and understanding the special situations encountered by LCV drivers in various traffic situations.

Unit 3.2—Speed and Space Management. This unit must provide instruction addressing the principles of speed and space management. Emphasis must be placed upon maintaining safe vehicular speed and appropriate space surrounding the vehicle under various traffic and road conditions. Special attention must be placed upon understanding the special situations encountered by LCVs in various traffic situations.

Unit 3.3—Night Operations. This unit must provide instruction addressing the principles of Night Operations. Emphasis must be placed upon the factors affecting operation of LCVs at night. Night driving presents specific factors that require special attention on the part of the driver. Changes in vehicle safety inspection, vision, communications, speed management, and space management are needed to deal with the special problems night driving presents.

Unit 3.4—Extreme Driving Conditions. This unit must provide instruction addressing the driving of LCVs under extreme driving conditions. Emphasis must be placed upon the factors affecting the operation of LCVs in cold, hot, and inclement weather and in the mountains and the desert. Changes in basic driving habits are needed to deal with the specific problems presented by these extreme driving conditions.

Unit 3.5—Security Issues. This unit must provide an understanding of the driver's role in America's war on terrorism as it relates to: (1) The driver's role in reducing the risk of LCV hijacking, (2) the importance of notifying the authorities concerning potentially dangerous situations; and (3) the need for heightened vigilance in preparation of travel, while on the road, and when stopping.

Unit 3.6—Proficiency Development. This unit must provide driver-students an opportunity to refine, within the on-street traffic environment, their vehicle handling skills learned in the first three sections. Driver-student performance progress must be closely monitored to determine when the level of proficiency required for carrying out the basic traffic maneuvers of stopping, turning, merging, straight driving, curves, lane changing, passing, driving on hills, driving through traffic restrictions and parking has been attained. The driver-student must also be assessed for regulatory compliance with all traffic laws.

Nearly all activity in this unit will take place on public roadways in a full range of traffic environments applicable to this vehicle configuration. This must include urban and rural uncontrolled roadways, expressways or freeways, under light, moderate and heavy traffic conditions. There must be a brief classroom session to familiarize driver-students with the type of on-street maneuvers they will perform and how their performance will be rated.

The instructor must assess the level of skill development of the driver-student and increase, in difficulty, the types of maneuvers, roadways and traffic conditions the driver-student is exposed to based upon the level of skill attained.

Section 4—Advanced Operations

The units in this section must introduce higher-level skills that can be acquired only after the more fundamental skills and knowledge taught in sections two and three have been mastered. The purpose of this section is to teach the perceptual skills necessary to recognize potential hazards and to demonstrate the procedures needed to handle an LCV when faced with a hazard.

The Maintenance and Troubleshooting Unit must provide instruction that addresses how to keep the vehicle in safe and efficient operating condition. The purpose of this unit is to teach the correct way to perform simple maintenance tasks and how to troubleshoot and report those vehicle discrepancies or deficiencies that must be repaired by a qualified mechanic.

Unit 4.1—Hazard Perception. This unit must provide instruction addressing the principles of recognizing hazards in sufficient time to reduce the severity of the hazard and neutralize a possible emergency situation. While hazards are present in all motor vehicle traffic operations, some are peculiar to LCV. Emphasis must be placed upon hazard recognition, visual search, and response to possible emergency producing situations encountered by LCV drivers in various traffic situations.

Unit 4.2—Hazardous Situations. This unit must address dealing with specific procedures, appropriate for LCV emergencies. These must include evasive steering, emergency braking, off-road recovery, brake failures, tire blowouts, rearward amplification, hydroplaning, skidding, jackknifing and the rollover phenomenon. The discussion must include a review of unsafe acts and the role they play in producing hazardous situations.

Unit 4.3—Maintenance and Troubleshooting. This unit must introduce driver-students to the basic servicing and checking procedures for the various vehicle components and how to help develop their ability to perform preventive maintenance functions, make simple emergency repairs, and diagnose and report vehicle malfunctions.

Section 5—Non-Driving Activities

The units in this section must cover activities not directly related to the vehicle itself but that must be performed by an LCV driver. The units in this section must ensure that these activities are performed in a manner that ensures the safety of the driver, the vehicle, cargo, and other road users.

Unit 5.1—Routes and Trip Planning. This unit must address the importance of and requirements for planning routes and trips. This must include classroom discussion of Federal and State requirements for a number of topics including, permits, vehicle size and weight limitations, designated highways, local access, the reasonable access rule, staging areas and access zones.

Unit 5.2—Cargo and Weight Considerations. This unit must address the importance of proper cargo documentation, loading, securing and unloading cargo, weight distribution, load sequencing and trailer placement. Emphasis must be placed upon the importance of axle weight distribution, trailer placement and its effect on vehicle handling.

PART 391—QUALIFICATIONS OF DRIVERS AND LONGER COMBINATION VEHICLE (LCV) DRIVING INSTRUCTORS

2. The authority citation for 49 CFR part 391 is revised to read as follows:

Authority: 49 U.S.C. 322, 504, 31133, 31136 and 31502; Sec. 4007(b) of Pub. L. 102-240 (105 Stat. 2152); and 49 CFR 1.73.

3. Part 391 is amended by revising the part name and by adding a new § 391.53 to subpart F to read as follows:

§ 391.53 LCV Instructor qualification files.

(a) Each motor carrier shall maintain an LCV instructor qualification file for each LCV instructor it employs or uses. The LCV instructor qualification file may be combined with his/her personnel file.

(b) The LCV instructor qualification file must include:

(1) All applicable information required by § 391.51;

(2) Evidence that the instructor has met the requirements of 49 CFR § 380.301 or § 380.303;

(3) The medical examiner's certificate of his/her physical qualification to drive a commercial motor vehicle or a legible photographic copy of the certificate; and

(4) A photographic copy of the individual's currently valid CDL with the appropriate endorsements.

Issued on: August 5, 2003.
Annette M. Sandberg,
Administrator.

[FR Doc. 03-20368 Filed 8-12-03; 8:45 am]

BILLING CODE 4910-EX-P